DEPARTMENT OF THE INTERIOR

Fish and Wildlife Service

Endangered Species Recovery Permits and Applications

AGENCY: Fish and Wildlife Service, Interior.

ACTION: Notice of availability.

SUMMARY: Notice is hereby given that Region 6 of the U.S. Fish and Wildlife Service (Service) has issued the following recovery permits for endangered species, between May 1, 2004, and December 31, 2004. We also announce our intention to issue recovery permits to conduct certain activities pertaining to scientific research and enhancement of survival of endangered species.

DATES: Written comments must be received February 3, 2005.

ADDRESSES: Written data or comments should be submitted to the Assistant Regional Director-Ecological Services, U.S. Fish and Wildlife Service, P.O. Box 25486, Denver Federal Center, Denver, Colorado 80225-0486; telephone (303) 236-7400, facsimile (303) 236-0027.

FOR FURTHER INFORMATION CONTACT: Documents and other information submitted with these permits are available for review, subject to the requirements of the Privacy Act and Freedom of Information Act, by any party who submits a written request for a copy of such documents within 20 days of the date of publication of this notice to the address above; telephone (303) 236-7400.

SUPPLEMENTARY INFORMATION: Between April 2004 and December 31, 2004, this office issued or renewed 10 permits for research and enhancement of survival actions on endangered species pursuant to section 10(a)(1)(A) of the Endangered Species Act (Act) of 1973, as amended (16 U.S.C. 1531 et seq.). The permits were issued only for recovery-related activities, for black-footed ferret (Mustela nigripes), American burying beetle (Nicrophorus americanus), Interior least tern (Sterna antillarum athalassos), Southwestern willow flycatcher (Empidonax traillii extimus), Topeka shiner (Notropis topeka), bonytail (Gila elegans), Colorado pikeminnow (Ptychocheilus lucius), humpback chub (Gila cypha), razorback sucker (Xyrauchen texanus), and pallid sturgeon (Scaphirhynchus albus). Each permit was granted only after it was determined to be applied for in good faith, contributing to species conservation and recovery, and consistent with the Act and applicable regulations.

The Service anticipates we will issue a similar number of permits for recovery-related activities pertaining to scientific research and enhancement of survival of endangered species through December 31, 2005. We are soliciting comments on issuance of permits during 2004 and 2005. Information on recovery permits may be obtained from the Assistant Regional Director-Ecological Services, U.S. Fish and Wildlife Service, P.O. Box 25486, Denver Federal Center, Denver, Colorado 80225-0486; telephone (303) 236-7400, facsimile (303) 236-0027.

Applicant: Michael Parker, Laramie Rivers Conservation District, Laramie, Wyoming, TE-078834.

The applicant requests a permit amendment to extend the expiration date to August 26, 2054 in conjunction with recovery activities under a Safe Harbor Agreement for the purpose of enhancing survival and recovery of the Wyoming toad (Bufo baxteri).

Applicant: Kevin Conway, Utah Division of Wildlife Resources, Department of Natural Resources, Salt Lake City, Utah, TE-097129.

The applicant requests a permit to take Utah prairie dogs (Cynomys parvidens) in conjunction with recovery activities under a Safe Harbor Agreement for the purpose of enhancing survival and recovery of the Utah prairie dog.

Dated: December 15, 2004.
Elliott Sutta,
Acting Regional Director, Denver, Colorado.

[FR Doc. 05-33 Filed 1-3-05; 8:45 am]

BILLING CODE 4310-55-P